DEPARTMENT OF DEFENSE

Office of the Secretary

[Docket ID: DoD-2013-OS-0115]

Privacy Act of 1974; System of Records; Correction

AGENCY: National Geospatial-Intelligence Agency, DoD.

ACTION: Notice to alter a System of Records; correction.

SUMMARY: On June 13, 2013 (78 FR 35606-35607), DoD published a notice altering a Privacy Act System of Records notice (NGA-013, National Geospatial-Intelligence Agency (NGA) Inspector General Investigative and Complaint Files). Subsequent to the publication of that notice, DoD discovered that the “Routine uses of records maintained in the system, including categories of uses and the purposes for such uses” paragraphs were not included. This notice corrects that omission.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Web site at http://dpclo.defense.gov/privacy/SORNs/component/ngia/index.html.

The proposed system report, as required by 5 U.S.C. 552a(r) of the Privacy Act of 1974, as amended, was submitted on May 17, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 16, 2013.
Aaron Siegel,
Alternate OSD Federal Register Liaison Officer, Department of Defense.

NGA-013

System name:

National Geospatial-Intelligence Agency (NGA) Inspector General Investigative and Complaint Files.

On June 13, 2013 (78 FR 35606-35607), DoD published a notice altering a Privacy Act System of Records notice (NGA-013, National Geospatial-Intelligence Agency (NGA) Inspector General Investigative and Complaint Files). Subsequent to the publication of that notice, DoD discovered that a new routine use was omitted. On page 35607, in the first column, immediately following the Purpose(s) paragraph, insert the following paragraphs to read as follows:

Routine uses of records maintained in the system, including categories of uses and the purposes for such uses:

Delete entry and replace with “In addition to those disclosures generally permitted under 5 U.S.C. 552a(b) of the Privacy Act of 1974, as amended, these records may be specifically disclosed outside of the DoD as a routine use pursuant to 5 U.S.C. a(b)(3) as follows:

The DoD Blanket Routine Uses that appear at the beginning of NGA's compilation of systems of records notices may apply to this system.

NGA may share information contained in this system with U.S. intelligence agencies related to investigations, criminal activity or evidence of waste, fraud and abuse.”

* * * * *

[FR Doc. 2013-17409 Filed 7-19-13; 8:45 am]

BILLING CODE 5001-06-P